DEPARTMENT OF LABOR

Employment and Training Administration

[TA-W-52,104]

Sanmina—SCI Corporation, Including Leased Workers of Adecco, Manpower and Next Level Communications, Inc., Augusta, ME; Amended Certification Regarding Eligibility To Apply for Worker Adjustment Assistance

In accordance with Section 223 of the Trade Act of 1974 (19 U.S.C. 2273) the Department of Labor issued a Certification of Eligibility to Apply for Worker Adjustment Assistance on July 25, 2003, applicable to workers of Sanmina—SCI Corporation, including leased workers of Adecco and Manpower, Augusta, Maine. The notice was published in the Federal Register on August 14, 2003 (68 FR 48646).

At the request of the company, the Department reviewed the certification for workers of the subject firm. Information provided by the company shows that a leased worker of Next Level Communications, Inc. were employed at Sanmina—SCI Corporation to produce telecommunication and medical electronic systems assembly at the Augusta, Maine location of the subject firm.

Based on these findings, the Department is amending this certification to include a leased worker of Next Level Communications, Inc. working at Sanmina—SCI Corporation, Augusta, Maine.

The intent of the Department's certification is to include all workers employed at Sanmina—SCI Corporation who was adversely affected by the shift in production to Mexico and Canada.

The amended notice applicable to TA-W-52,104 is hereby issued as follows:

• All workers of Sanmina—SCI, Augusta, Maine, who became totally or partially separated from employment on or after June 20, 2003, through July 25, 2005; and leased workers of Adecco, Manpower and Next Level Communications, Inc., producing telecommunication and medical electronic systems assembly at Sanmina—SCI, Augusta, Maine, who became totally or partially separated from employment on or after June 19, 2002, through July 25, 2005, are eligible to apply for adjustment assistance under Section 223 of the Trade Act of 1974.

Signed at Washington, DC this 10th day of October, 2003.
Richard Church,
Certifying Officer, Division of Trade Adjustment Assistance.

[FR Doc. 03-29275 Filed 11-21-03; 8:45 am]

BILLING CODE 4510-30-P